DEPARTMENT OF HEALTH AND HUMAN SERVICES

Centers for Disease Control and Prevention

Notice of Intent To Award Ebola Response Outbreak Funding to the International Association of National Public Health Institutes (IANPHI)

AGENCY: Centers for Disease Control and Prevention (CDC), Department of Health and Human Services (HHS).

ACTION: Notice.

SUMMARY: This notice provides public announcement of CDC's intent to award Ebola appropriations to the International Association of National Public Health Institutes (IANPHI) for response to the Ebola outbreak funding. This award was proposed in Fiscal Year (FY) 2015 under funding opportunity announcement GH14-1419 “Advancing National Public Health Institutes Globally”. IANPHI is uniquely positioned, in terms of authority, ability, track record, infrastructure, and credibility to engage its member institutes to respond to the Ebola outbreak in West Africa. Furthermore, these activities to increase eligible governments' capacity to respond to the Ebola outbreak are directly aligned with the current activities that IANPHI is conducting under this FOA to strengthen and expand national public health institute capabilities and support global health security.

Catalogue of Federal Domestic Assistance Number (CFDA): 93.318.

Authority: Sections 307 and 317(k)(2), Public Health Service Act 42 U.S.C. 242l and 247b(k)(2) as amended.

Single award may be awarded to grantee totaling $1,100,000 for Ebola response outbreak.

Funding is appropriated under the Continuing Appropriations Resolution, 2015, Public Law 113-164, 128 Stat. 1867 (2014).

DATES: Anticipated award date is 12/1/2014.

Application Due Date: 11/17/2014.

Project Number is CDC-RFA-GH14-1419.

ADDRESSES: CDC has waived the Grants.gov electronic submission process for this requirement. Recipients are hereby authorized to submit a paper copy application for (CDC-RFA-GH14-1419) via Express Mail (i.e. FedEx, UPS, or DHL) and send the application via email. Mailed applications must be address to Dionne Bounds, Centers for Disease Control and Prevention, 2920 Brandywine Road, Atlanta, GA 30341, telephone (770) 488-2082, or email her at DBounds@cdc.gov. The application must include a detailed line-item budget and justification to support the Ebola activities from December 1, 2014 to September 29, 2015.

Please download the following to complete the application package:

http://apply07.grants.gov/apply/forms/sample/SF424_2_1-V2.1.pdf—Application Package

http://www.cdc.gov/od/pgo/funding/docs/CertificationsForm.pdf—Certifications

http://www.cdc.gov/od/pgo/funding/grants/foamain.shtm—Assurances

http://www.cdc.gov/od/pgo/funding/grants/Budget_Preparation_Guidelines_8-2-12.docx—CDC-PGO Budget Guidelines

http://apply07.grants.gov/apply/forms/sample/SF424A-V1.0.pdf—SF-424A Budget Information

All applications must be submitted to and received by the Grants Management Officer (GMO) no later than 11:59 p.m. EST on November 17, 2014 and please provide the GMO a PDF version of the application by email to the following email address: ogsghsebolaresponse@cdc.gov subject line: CDC-RFA-GH14-1419.

Applicants will be provided with the Funding Opportunity Announcement (FOA) and additional application submission guidance via email notification. Applicants may contact the POCs listed with questions regarding the application process.

FOR FURTHER INFORMATION CONTACT: For programmatic or technical assistance: Miranda Bodfish, Project Officer, Department of Health and Human Services, Centers for Disease Control and Prevention, 1600 Clifton Rd. MS E-93, Atlanta, GA 30333, Telephone: 404 719-0232, email: WTI4@cdc.gov.

For financial, awards management, or budget assistance: Dionne Bounds, Grants Management Officer, Centers for Disease Control and Prevention, 2920 Brandywine Road, Atlanta, GA 30341, Telephone (770) 488- 2082, email: DBounds@cdc.gov.

SUPPLEMENTARY INFORMATION: The purpose of this notice is to solicit an application from IANPHI to assist in the response to the Ebola virus in West Africa. The funding will support the impacted surrounding countries to combat this health crisis. This funding will target the following countries: Cameroon, Cote d'Ivoire, Guinea, and Guinea-Bissau to support the responses of the CDC to the outbreak of Ebola virus in West Africa. This funding will enable the U.S. to provide unified mobilization to address a crisis of this magnitude. CDC will continue to build partnerships and strengthen existing projects to respond to Ebola. CDC and its partners will help to address the need for surveillance, detection, coordination, response, and increase eligible governments' capacity to respond to the Ebola outbreak.

Award Information

Type of Award: Expansion Supplement.

Approximate Total Current Fiscal Year Funding: $1,100,000.

Anticipated Number of Awards: One.

Fiscal Year Funds: 2015.

Anticipated Award Date: December 1, 2014.

Application Selection Process: Funding will be awarded to applicant based on results from the technical review recommendation.

Dated: November 6, 2014.
Ron A. Otten,
Acting Deputy Associate Director for Science, Centers for Disease Control and Prevention.

[FR Doc. 2014-26799 Filed 11-7-14; 11:15 am]

BILLING CODE 4163-18-P